DEPARTMENT OF THE INTERIOR

Bureau of Land Management

Public Land Order No. 7886; Yuma Project 6, Imperial County, CA, and Yuma County, AZ

AGENCY: Bureau of Land Management, Interior.

ACTION: Public Land Order.

SUMMARY: This Order withdraws, subject to valid existing rights, approximately 68 acres of Federal lands from settlement, sale, location, and entry under the general land laws, including the United States mining laws, mineral leasing laws, and geothermal leasing laws, for a period of 3 years for use by the Department of the Army for border security purposes. This withdrawal also transfers administrative jurisdiction of the lands to the Department of the Army.

DATES: This PLO takes effect on September 18, 2019.

FOR FURTHER INFORMATION CONTACT: Joseph Stout, Acting State Director California, telephone: 916-978-4600, email: jstout@blm.gov; or, Raymond Suazo, State Director Arizona, telephone: 602-417-9500, email: rmsuazo@blm.gov.

Persons who use a telecommunications device for the deaf (TDD) may call the Federal Relay Service (FRS) at 1-800-877-8339 to contact Mr. Stout or Mr. Suazo. The FRS is available 24 hours a day, 7 days a week, to leave a message or question. You will receive a reply during normal business hours.

SUPPLEMENTARY INFORMATION:

Order

By virtue of the authority vested in the Secretary of the Interior by Section 204 of the Federal Land Policy and Management Act of 1976, 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Army for border security purposes.

A strip of land of the uniform width of 270 feet lying contiguous to and parallel to the international border between the United States and Mexico, located in the County of Imperial, State of California, and situate in the following described locations:

San Bernardino Meridian, California

T. 16 S, R. 21 E,

Sec. 33, lots 13, 14, 19, and 20;

Sec. 34.

Containing 49 acres

Subject to existing State sovereign land in the last natural bed of the Colorado River.

The areas described above aggregate approximately 49 acres of Federal lands in Imperial County, California.

A strip of land of the uniform width of 200 feet lying contiguous to and parallel to the international border between the United States and Mexico, located in the County of Yuma, State of Arizona, and situate in the following described locations:

Gila-Salt River Meridian, Arizona

T. 8 S, R. 24 W,

Sec. 21;

Sec. 22, lot 4.

San Bernardino Meridian, California

T. 16 S, R. 21 E,

Sec. 35.

Containing 12 acres

A strip of land of the uniform width of 200 feet, located in the County of Yuma, State of Arizona, and situate in the following described locations:

Gila-Salt River Meridian, Arizona

T. 8 S, R. 24 W,

Sec. 28, lot 4, and lots 15 thru 18.

Containing 7 acres

Subject to existing State sovereign land in the last natural bed of the Colorado River.

The areas described above aggregate approximately 19 acres of Federal lands in Yuma County, Arizona and Imperial County, California.

2. This withdrawal will expire 3 years from the effective date of this Order, unless it is extended in accordance with subsections (c)(1) or (d), whichever is applicable, and (b)(1) of Section 204 of the Federal Land Policy and Management Act of 1976, 43 U.S.C. 1714.

Dated: September 18, 2019.
David L. Bernhardt,
Secretary of the Interior.

[FR Doc. 2019-20717 Filed 9-23-19; 8:45 am]

BILLING CODE 3720-58-P